DEPARTMENT OF HEALTH AND HUMAN SERVICES

National Institutes of Health

Proposed Collection; 60-Day Comment Request Surveys To Support an Evaluation of the National Human Genome Research Institute (NHGRI) Summer Workshop in Genomics (Short Course)

SUMMARY: In compliance with the requirement of Section 3506(c)(2)(A) of the Paperwork Reduction Act of 1995, for opportunity for public comment on proposed data collection projects, the National Human Genome Research Institute (NHGRI), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments And For Further Information: To obtain a copy of the data collection plans and instruments, submit comments in writing, or request more information on the proposed project, contact: Carla L. Easter, Ph.D., Chief, Education and Community Involvement Branch, NHGRI, Building 31, Room B1B55, 31 Center Drive, MSC 2070, Bethesda, MD 20892 or call non-toll-free number (301) 594-1364 or Email your request, including your address to: easterc@mail.nih.gov. Formal requests for additional plans and instruments must be requested in writing.

Comment Due Date: Comments regarding this information collection are best assured of having their full effect if received within 60 days of the date of this publication.

Proposed Collection: Surveys to Support an Evaluation of the NHGRI Summer Workshop in Genomics (Short Course), 0925-NEW, National Human Genome Research Institute (NHGRI), National Institutes of Health (NIH).

Need and Use of Information Collection: The purpose of the proposed data collection activity is to complete a full-scale outcome evaluation of NHGRI's Summer Workshop in Genomics (a.k.a., the “Short Course”) focusing on program participants between 2004 and 2012. This training program is an intensive multi-day course that updates instructors and researchers of biology and nursing (and other related disciplines) on the latest research trends and topics in genomic science. The course focuses on the continuing effort to find the genetic basis of various diseases and disorders, and current topics on the ethical, legal and social implications of genomics.

The Education and Community Involvement Branch (ECIB) designed the program to accomplish the following goals, which align with elements of both the NIH and NHGRI missions:

• Expand NIH and NHGRI's professional network to reach out to diverse communities, and to create new partnership opportunities.

• Prepare the next generation of genomics professionals for an era of genomic medicine.

• Train and diversify the pipeline of genome professionals in alignment with the NIH and US Department of Health and Human Services diversity efforts.

The ECIB has systematically collected feedback annually after the program from participants since inception of the Short Course in 2003, and then used the data to tweak the program, but it has not conducted a long-term, cumulative and substantive outcome evaluation. NHGRI and the ECIB propose to conduct such an outcome evaluation, focusing on three main objectives:

(1) To understand the degree of genetic and genomic curriculum integration by faculty participants;

(2) To explore the barriers and supports faculty experience and changes when integrating curriculum; and

(3) To investigate the influence of the program on the participants' career path.

Survey findings will provide valuable information about the various methods and pathways instructors use to disseminate new knowledge (and the associated timelines), the barriers and supports experienced by faculty as they integrate new knowledge into their teaching, and insights about additional avenues of support that NHGRI could provide teaching faculty from the types of institutions identified. Key indicators will also provide evidence about the degree to which the Short Course is meeting its goals. Collectively, the outcome evaluation will inform future program design and budget allocations.

OMB approval is requested for 2 years. There are no costs to respondents other than their time. The total estimated annualized burden hours are 155.

Estimated Annualized Burden Hours
Form name | Type of respondents | Number of respondents | Number of responses per respondent | Average burden per response (in hours) | Total annual burden hours
Short Course Survey—Students | Students | 110 | 1 | 30/60 | 55
Short Course Survey—Faculty | Faculty | 200 | 1 | 30/60 | 100
Totals |  | 310 |  |  | 155

Dated: March 11, 2015.
Gloria Butler,
NHGRI Project Clearance Liaison, National Institutes of Health.

[FR Doc. 2015-06086 Filed 3-16-15; 8:45 am]

BILLING CODE 4140-01-P